DEPARTMENT OF LABOR

Employment and Training Administration

[TA-W-65,313]

Delphi Packard Electrical/Electronic Architecture, Packard Division, Warren, OH; Notice of Termination of Investigation

Pursuant to Section 221 of the Trade Act of 1974, as amended, an investigation was initiated on February 19, 2009 in response to a petition filed by the International Union of Electronic, Electrical, Salaried, Machine and Furniture Workers—Communication Workers of America on behalf of workers of Delphi Packard Electrical/Electronic Architecture, Packard Division, Warren, Ohio.

The petitioners have requested that the petition be withdrawn. Therefore, the investigation under this petition has been terminated.

Signed at Washington, DC, this 20th day of March 2009.
Linda G. Poole,
Certifying Officer, Division of Trade Adjustment Assistance.

[FR Doc. E9-7755 Filed 4-6-09; 8:45 am]

BILLING CODE 4510-FN-P